DEPARTMENT OF TRANSPORTATION

Office of the Secretary

Notice of Applications for Certificates of Public Convenience and Necessity and Foreign Air Carrier Permits Filed Under Subpart B (Formerly Subpart Q) During the Week Ending July 18, 2003

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-6319.

Date Filed: July 16, 2003.

Due Date for Answers, Conforming Applications, or Motion to Modify Scope: August 6, 2003.

Description: Application of Northwest Airlines, Inc., pursuant to 49 U.S.C. 41102 and subpart B, requesting an amendment of its experimental certificate of public convenience and necessity for Route 564 (U.S.-Mexico) to incorporate authority for service between Los Angeles and Guadalajara. Northwest also requests that the Department integrate this authority with all of Northwest's existing certificate and exemption authority to the extent consistent with U.S. bilateral agreements and Department policy.

Andrea M. Jenkins,
Program Manager, Docket Operations, Federal Register Liaison.

[FR Doc. 03-19242 Filed 7-28-03; 8:45 am]

BILLING CODE 4910-62-P